Title 3—

The President

Presidential Determination No. 2004-44 of September 10, 2004

Presidential Determination and Certification Concerning Libya Under Section 101 and 102(b) of the Arms Export Control Act and Determination on Export-Import Bank Support for U.S. Exports to Libya

Memorandum for the Secretary of State

Pursuant to section 101 of the Arms Export Control Act, I hereby determine that Libya received nuclear enrichment equipment, material, or technology after August 4, 1977. I hereby determine and certify that the continued termination of assistance, as required by this section, would have a serious adverse effect on vital United States interests and that I have received reliable assurances that Libya will not acquire or develop nuclear weapons or assist other nations in doing so.

Pursuant to section 102(b) of the Arms Export Control Act, I hereby determine that Libya, a non-nuclear weapon state, sought and received design information that I determine to be important to, and intended by Libya for use in, the development or manufacture of a nuclear explosive device. I hereby determine and certify that the application of sanctions, as required by this section, would have a serious adverse effect on vital United States interests.

Pursuant to section 2(b)(4) of the Export-Import Bank Act of 1945, as amended, I hereby determine and certify that it is in the national interest for the Export-Import Bank to guarantee, insure, or extend credit, or participate in the extension of credit in support of United States exports to Libya.

You are directed to report this determination to the Congress and to provide copies of the justification explaining the basis for this determination. You are further directed to publish this determination in the Federal Register.

B

THE WHITE HOUSE,

Washington, September 10, 2004.

[FR Doc. 04-21211

Filed 9-17-04; 8:45 am]

Billing code 4710-10-P